DEPARTMENT OF AGRICULTURE

Rural Telephone Bank

Sunshine Act Meetings

ACTION: Staff Briefing for the Board of Directors.

TIME AND DATE: 3 p.m., Thursday, May 13, 2004.

PLACE: Conference Room 104-A, Jamie L. Whitten Federal Building, U.S. Department of Agriculture, 12th & Jefferson Drive, SW., Washington, DC.

STATUS: Open.

MATTERS TO BE DISCUSSED: 1. Broadband Program update.

2. Privatization discussion.

3. Administrative and other issues.

ACTION: Board of Directors Meeting.

TIME AND DATE: 9 a.m., Friday, May 14, 2004.

PLACE: Conference Room 104-A, Jamie L. Whitten Federal Building, U.S. Department of Agriculture, 12th & Jefferson Drive, SW., Washington, DC.

STATUS: Open.

MATTERS TO BE CONSIDERED: The following matters have been placed on the agenda for the Board of Directors meeting:

1. Call to order.

2. Action on Minutes of the February 13, 2004, board meeting.

3. Secretary's Report on loans approved.

4. Treasurer's Report.

5. Discussion on Privatization.

6. Governor's Remarks.

7. Adjournment.

FOR FURTHER INFORMATION CONTACT: Roberta D. Purcell, Assistant Governor, Rural Telephone Bank, (202) 720-9554.

Dated: May 3, 2004.
Hilda Legg,
Governor, Rural Telephone Bank.

[FR Doc. 04-10387 Filed 5-3-04; 3:22 pm]

BILLING CODE 3410-15-P